DEPARTMENT OF THE INTERIOR

National Park Service

[NPS-WASO-NAGPRA-12934; PPWOCRADN0-PCU00RP14.R50000]

Notice of Inventory Completion: Dallas Water Utilities, Dallas, TX

AGENCY: National Park Service, Interior.

ACTION: Notice.

SUMMARY: The Dallas Water Utilities has completed an inventory of human remains and associated funerary objects in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to Dallas Water Utilities. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Dallas Water Utilities at the address in this notice by July 8, 2013.

ADDRESSES: Terry Hodgins, 405 Long Creek Road, Sunnyvale, TX 75182, telephone (214) 670-8658, email terry.hodgins@dallascityhall.com.

SUPPLEMENTARY INFORMATION: Notice is here given in accordance with the Native American Graves Protection and Repatriation Act (NAGPRA), 25 U.S.C. 3003, of the completion of an inventory of human remains and associated funerary objects under the control of Dallas Water Utilities, Dallas, TX. The human remains and associated funerary objects were removed from Lake Ray Hubbard, Dallas, TX.

This notice is published as part of the National Park Service's administrative responsibilities under NAGPRA, 25 U.S.C. 3003(d)(3). The determinations in this notice are the sole responsibility of the museum, institution, or Federal agency that has control of the Native American human remains and dart points. The National Park Service is not responsible for the determinations in this notice.

Consultation

A detailed assessment of the human remains and associated funerary objects was made by AR Consultants, Inc. and Dallas Water Utilities professional staff in consultation with representatives of the Caddo Nation of Oklahoma; Comanche Nation, Oklahoma; Kiowa Indian Tribe of Oklahoma; Mescalero Apache Tribe of the Mescalero Reservation, New Mexico; Tonkawa Tribe of Indians of Oklahoma; and the Wichita and Affiliated Tribes (Wichita, Keechi, Waco & Tawakoni).

History and Description of the Remains

On September 22, 2011, human remains representing, at minimum, four individuals were removed from Lake Ray Hubbard in Dallas County, TX. The remains were exposed due to low lake levels resulting from a drought. Human skeletal remains and seven dart points were found near the area of an archaeological site 41DL8. The fisherman that found the remains reported their presence to the local police department. The Dallas Homicide Squad and a representative from the Dallas Medical Examiner's Office exhumed the remains. Initially determined to be animal remains, the exhumed skeletal elements were taken to the Medical Examiner's Office for identification, where they were determined to be human. Upon determination that the skeletal elements were human, Dallas Homicide and the Medical Examiner's representative returned to the scene and continued the exhumation until a dart point was encountered. Consultant Mark Ingraham, from the University of North Texas, removed additional remains from the site. Dallas Water Utilities contracted with AR Consultants, Inc. to complete the recovery of all bone fragments from the discovery site and insure that no further burials were in the immediate vicinity. AR Consultants, Inc. completed excavations and surveyed the shoreline to explore for the presence of any additional remains.

Analysis of the human remains and associated funerary objects by AR Consultants, Inc. indicates that the remains are of Native American ancestry. Radiocarbon dating of the bone attributes the burials to the early Late Archaic Period, between 1380-1130 B.C. and 1120-930 B.C. Radiocarbon dating of two femora from separate individuals occurred with permission of the Wichita and Affiliated Tribes. Skeletal analysis showed that a minimum of four male individuals were present. All four males were interred in a single burial pit. The skeletal investigation determined the males were between 35-45 years old at the time of death. No known individuals were identified. The seven associated funerary objects are dart points removed from the burial pit. The points were inspected by several authorities on Texas lithics, and they concluded that the dart points probably date to the early Late Archaic, although a type could not be specified. The assemblage included two dart points made of Ogalalla quartzite, four of Edwards chert, and one of Johns Valley chert.

Based on archeological, historical, and other information, there is a relationship of shared group identity between these remains and associated funerary objects and the Caddo Nation of Oklahoma and the Wichita and Affiliated Tribes (Wichita, Keechi, Waco & Tawakoni). Geographic affiliation is consistent with the historically documented territory of the Wichita and Affiliated Tribes and Caddo Nation. The associated funerary objects type is consistent with the Early Late Archaic when the site and area was occupied by the Wichita and Affiliated Tribes and the Caddo Nation. The Caddo Nation deferred all decisions regarding the human skeletal remains and associated funerary objects to the Wichita and Affiliated Tribes. Radiocarbon dates, obtained with permission from the Wichita and Affiliated Tribes, of two femora dated to BC 1310-1000.

Determinations Made by the Dallas Water Utilities

Officials of the Dallas Water Utilities and AR Consultants, Inc. have determined that:

• Pursuant to 25 U.S.C. 3001(9), the human remains described in this notice represent the physical remains of four individuals of Native American ancestry.

• Pursuant to 25 U.S.C. 3001(3)(A), the seven objects described in this notice are reasonably believed to have been placed with or near individual human remains at the time of death or later as part of the death rite or ceremony.

• Pursuant to 25 U.S.C. 3001(2), there is a relationship of shared group identity that can be reasonably traced between the Native American human remains and associated funerary objects and the Caddo Nation of Oklahoma and the Wichita and Affiliated Tribes (Wichita, Keechi, Waco & Tawakoni). The Caddo Nation of Oklahoma has deferred to the Wichita and Affiliated Tribes.

Additional Requestors and Disposition

Lineal descendants or representatives of any Indian tribe or Native Hawaiian organization not identified in this notice that wish to request transfer of control of these human remains and associated funerary objects should submit a written request with information in support of the request to Terry Hodgins, 405 Long Creek Road, Sunnyvale, TX 75182, telephone (214) 670-8658, email terry.hodgins@dallascityhall.com, by July 8, 2013. After that date, if no additional requestors have come forward, transfer of control of the human remains and associated funerary objects to the Wichita and Affiliated Tribes may proceed.

The Dallas Water Utilities is responsible for notifying the Caddo Nation of Oklahoma and the Wichita and Affiliated Tribes (Wichita, Keechi, Waco & Tawakoni) that this notice has been published.

Dated: April 26, 2013.
Sherry Hutt,
Manager, National NAGPRA Program.

[FR Doc. 2013-13466 Filed 6-5-13; 8:45 am]

BILLING CODE 4312-50-P